NATIONAL AERONAUTICS AND SPACE ADMINISTRATION

[Notice: (18-059)]

NASA Advisory Council; Aeronautics Committee; Meeting.

AGENCY: National Aeronautics and Space Administration.

ACTION: Notice of meeting.

SUMMARY: In accordance with the Federal Advisory Committee Act, as amended, the National Aeronautics and Space Administration (NASA) announces a meeting of the Aeronautics Committee of the NASA Advisory Council (NAC). This meeting will be held for the purpose of soliciting, from the aeronautics community and other persons, research and technical information relevant to program planning.

DATES: Tuesday, August 28, 2018, 10:00 a.m.-5:00 p.m., PDT.

ADDRESSES: NASA Ames Research Center, NASA Ames Conference Center, Building 3, 500 Severyns Road, North Wing Room, Moffett Field, CA 94035

FOR FURTHER INFORMATION CONTACT: Ms. Irma Rodriguez, Designated Federal Officer, Aeronautics Research Mission Directorate, NASA Headquarters, Washington, DC 20546, (202) 358-0984, or irma.c.rodriguez@nasa.gov.

SUPPLEMENTARY INFORMATION: The meeting will be open to the public up to the capacity of the room. This meeting is also available telephonically and online via Adobe Connect. You must use a touch-tone phone to participate in this meeting. Any interested person may dial the USA toll-free conference number 1-844-467-6272, passcode: 592382, followed by the # sign to participate in this meeting by telephone. The Adobe Connect link is https://ac.arc.nasa.gov/aero. Enter as a guest and type your name. NOTE: If dialing in, please “mute” your telephone. The agenda for the meeting includes the following topics:

—Urban Air Mobility (UAM) Strategy

—Unmanned Air Systems (UAS) Update

—Low Boom Flight Demonstrator (LBFD) Update

For NASA Ames Research Center visitor access, please go through the Main Gate and show a valid government-issued identification (i.e., driver's license, passport, etc.) to the security guard. Inform the security guard that you are attending a meeting in Building 3. Attendees will also be required to sign a register prior to entering the meeting room. It is imperative that the meeting be held on these dates to the scheduling priorities of the key participants.

Carol J. Hamilton,
Acting Advisory Committee Management Officer, National Aeronautics and Space Administration.

[FR Doc. 2018-16966 Filed 8-7-18; 8:45 am]

BILLING CODE 7510-13-P